DEPARTMENT OF TRANSPORTATION

Federal Aviation Administration

14 CFR Part 39

[Docket No. FAA-2018-0711; Product Identifier 2018-NM-062-AD; Amendment 39-19533; AD 2018-26-03]

RIN 2120-AA64

Airworthiness Directives; The Boeing Company Airplanes

AGENCY: Federal Aviation Administration (FAA), DOT.

ACTION: Final rule.

SUMMARY: We are adopting a new airworthiness directive (AD) for all The Boeing Company Model 757-200 series airplanes. This AD was prompted by reports of uncommanded movement of the captain's and first officer's seats. This AD requires, for the captain's and first officer's seats, repetitive horizontal actuator identifications, repetitive checks of the horizontal movement system (HMS), a detailed inspection of the HMS, as applicable, and applicable on-condition actions. This AD also requires a general visual inspection to determine the seat part numbers of the captain's and first officer's seats, a cable adjustment check on seats with certain seat part numbers, and applicable on-condition actions. We are issuing this AD to address the unsafe condition on these products.

DATES: This AD is effective January 31, 2019.

The Director of the Federal Register approved the incorporation by reference of certain publications listed in this AD as of January 31, 2019.

ADDRESSES: For service information identified in this final rule, contact Boeing Commercial Airplanes, Attention: Contractual & Data Services (C&DS), 2600 Westminster Blvd., MC 110-SK57, Seal Beach, CA 90740-5600; telephone 562-797-1717; internet https://www.myboeingfleet.com. You may view this service information at the FAA, Transport Standards Branch, 2200 South 216th St., Des Moines, WA. For information on the availability of this material at the FAA, call 206-231-3195. It is also available on the internet at http://www.regulations.gov by searching for and locating Docket No. FAA-2018-0711.

Examining the AD Docket

You may examine the AD docket on the internet at http://www.regulations.gov by searching for and locating Docket No. FAA-2018-0711; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Myra Kuck, Aerospace Engineer, Cabin Safety and Environmental Systems Section, FAA, Los Angeles ACO Branch, 3960 Paramount Boulevard, Lakewood, CA 90712-4137; phone: 562-627-5316; fax: 562-627-5210; email: myra.j.kuck@faa.gov.

SUPPLEMENTARY INFORMATION:

Discussion

We issued a notice of proposed rulemaking (NPRM) to amend 14 CFR part 39 by adding an AD that would apply to all The Boeing Company Model 757-200 series airplanes. The NPRM published in the Federal Register on August 16, 2018 (83 FR 40710). The NPRM was prompted by reports of uncommanded movement of the captain's and first officer's seats. The NPRM proposed to require, for the captain's and first officer's seats, repetitive horizontal actuator identifications, repetitive checks of the HMS, a detailed inspection of the HMS, as applicable, and applicable on-condition actions. The NPRM also proposed to require a general visual inspection to determine seat part numbers of the captain's and first officer's seats, a cable adjustment check on seats with certain seat part numbers, and applicable on-condition actions.

Comments

We gave the public the opportunity to participate in developing this final rule. The following presents the comments received on the NPRM and the FAA's response to each comment.

Support for the NPRM

Air Line Pilots Association, International (ALPA) stated its support for the NPRM. United Airlines stated that it has no technical objections to the NPRM.

Effect of Winglets on Accomplishment of the Proposed Actions

Aviation Partners Boeing (APB) stated that the installation of winglets per Supplemental Type Certificate (STC) ST01518SE does not affect the accomplishment of the manufacturer's service instructions.

We agree with APB that STC ST01518SE does not affect the accomplishment of the manufacturer's service instructions. Therefore, the installation of STC ST01518SE does not affect the ability to accomplish the actions required by this AD. We have not changed this AD in this regard.

Request To Add Airplane Models to Applicability

Delta Air Lines (DAL) requested that the FAA consider expanding the applicability of the proposed AD to address all affected fleets that share the identified unsafe condition, or consider requiring effectivity at the manufacturer part number. DAL reasoned that expanding the applicability of the proposed AD to include all affected airplane models or affected manufacturer part numbers would ease the burden on operators by allowing them to forgo commenting on multiple proposed fleet ADs and processing separate AD-related service information by individual fleet type. DAL pointed out that this would greatly assist operators with implementation for operators that share the same affected part number among different affected fleets.

We disagree with the commenter's request. Not all of the service information for all affected airplane models is available, and we do not agree to delay issuance of this AD until new service information is released. Moreover, adding airplanes to the applicability would necessitate (under the provisions of the Administrative Procedure Act) reissuing the notice, reopening the comment period, considering additional comments subsequently received, and eventually issuing a final rule. In consideration of the urgency of the unsafe condition identified in this final rule, we have determined that delay of this final rule is not appropriate. However, we might consider further rulemaking on this issue. We have not changed this AD in this regard.

Request To Establish Predetermined Interval for Performing Service Information

Air Astana Airlines commented that although its Boeing Model 767 fleet is not affected by Boeing Special Attention Service Bulletin 757-25-0308, Revision 1, dated June 7, 2018, Boeing Special Attention Service Bulletin 757-25-0309, Revision 1, dated July 2, 2018, or the proposed AD, its fleet is affected by similar Boeing Service Bulletin 767-25-0549. The commenter stated that it would be useful to perform this inspection at a predetermined interval.

We acknowledge Air Astana Airlines' recommendation, and we infer that the commenter is asking whether Boeing Service Bulletin 767-25-0549 will be mandated by an AD. We may consider issuing similar rulemaking for other Boeing airplanes using seats in the flight deck that have the same actuators identified in this final rule. We have not changed this AD in this regard.

Request To Clarify Relationship of Seat Actuators Between Different Airplane Models

Boeing explained that the relationship of seat actuators among the Boeing Model 757, 767, and 777 fleet is inaccurate in the “Discussion” section. Boeing points out that the seat actuators are the same among the Boeing Model 757, 767, and 777 airplanes, not necessarily the seats themselves.

We agree that the description provided by the commenter is more accurate. Since that section of the preamble does not reappear in the final rule, however, we have not changed the final rule regarding this issue.

Request for Alternative Compliance Method

DAL requested that paragraph (g) of the proposed AD be revised to explicitly allow the seats in the flight compartment to be removed prior to performing the requirements of paragraph (g) of the proposed AD. We infer from the comment that DAL contends that Boeing Special Attention Service Bulletin 757-25-0308, Revision 1, dated June 7, 2018, appears to specify that the detailed inspection of the captain's seat HMS can be performed only in the flight compartment. DAL pointed out that removing the seats and performing the detailed inspection in a dedicated shop would increase the level of safety by improving the inspection conditions.

We disagree with the request to revise paragraph (g) of the proposed AD. We note that the seat removal step, which is Step 1, Part 1, of the Accomplishment Instructions of Boeing Special Attention Service Bulletin 757-25-0308, Revision 1, dated June 7, 2018, is exempt from Required for Compliance (RC) steps, meaning that the RC requirement does not apply to this step in accordance with the provisions of paragraph (j)(4) of this AD. The detailed inspection of the captain's seat HMS as specified in Part 1 of the Accomplishment Instructions of Boeing Special Attention Service Bulletin 757-25-0308, Revision 1, dated June 7, 2018, may be accomplished either in the flight compartment or on a suitable test fixture in a dedicated shop or other appropriate location. Additionally, the service information referenced within Part 1 of the Accomplishment Instructions of Boeing Special Attention Service Bulletin 757-25-0308, Revision 1, dated June 7, 2018, allows for the detailed inspection to be completed on the aircraft or on a test fixture in a dedicated shop or other appropriate location, such as the one suggested by DAL. We have not changed this AD in this regard.

Conclusion

We reviewed the relevant data, considered the comments received, and determined that air safety and the public interest require adopting this final rule as proposed, except for minor editorial changes. We have determined that these minor changes:

• Are consistent with the intent that was proposed in the NPRM for addressing the unsafe condition; and

• Do not add any additional burden upon the public than was already proposed in the NPRM.

Related Service Information Under 1 CFR Part 51

We reviewed Boeing Special Attention Service Bulletin 757-25-0308, Revision 1, dated June 7, 2018. This service information describes procedures for repetitive horizontal actuator identifications, repetitive checks of the HMS, a detailed inspection of the HMS, as applicable, and applicable on-condition actions. On-condition actions include an overhaul of the HMS and checks of the HMS.

We reviewed Boeing Special Attention Service Bulletin 757-25-0309, Revision 1, dated July 2, 2018. This service information describes procedures for a general visual inspection to determine the seat part numbers on the captain's and first officer's seats, and, for seats with certain part numbers, a manual override cable adjustment check of the captain's and first officer's seats, and applicable on-condition actions. On-condition actions include moving the adjustment nut, tightening the lock nut, and readjusting the control lever.

This service information is reasonably available because the interested parties have access to it through their normal course of business or by the means identified in the ADDRESSES section.

Costs of Compliance

We estimate that this AD affects 17 airplanes of U.S. registry. We estimate the following costs to comply with this AD:

Estimated Costs for Required Actions
Action | Labor cost | Parts cost | Cost per product | Cost on U.S. operators
Identification/Check | Up to 11 work-hours × $85 per hour = $935 per identification/check cycle | Up to $4,820 | Up to $5,755 per identification/ check cycle | Up to $97,835 per identification/check cycle.
Inspection | Up to 1 work-hour × $85 per hour = $85 | $0 | Up to $85 | Up to $1,445.

We have received no definitive data that would enable us to provide cost estimates for the on-condition actions specified in this AD.

Certain configurations of captain's and first officer's seats may require special tooling to align the seats. Special tooling for one set of captain's and first officer's seats will cost $22,000, and a certain other set will cost $23,000. If an operator owns both combinations of seats, the special tooling will cost up to $45,000 per operator.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-26-03 The Boeing Company: Amendment 39-19533; Docket No. FAA-2018-0711; Product Identifier 2018-NM-062-AD.

(a) Effective Date

This AD is effective January 31, 2019.

(b) Affected ADs

None.

(c) Applicability

This AD applies to all The Boeing Company Model 757-200 series airplanes, certificated in any category.

(d) Subject

Air Transport Association (ATA) of America Code 25, Equipment/furnishings.

(e) Unsafe Condition

This AD was prompted by reports of uncommanded movement of the captain's and first officer's seats. We are issuing this AD to address the uncommanded movement of the captain's or first officer's seat, which could lead to reduced controllability of the airplane.

(f) Compliance

Comply with this AD within the compliance times specified, unless already done.

(g) Identification, Check, Inspection, On-Condition Actions (Includes Overhaul of Horizontal Movement System), and Repetitive Actions

For airplanes identified in Boeing Special Attention Service Bulletin 757-25-0308, Revision 1, dated June 7, 2018: Except as required by paragraph (h) of this AD, at the applicable times specified in paragraph 1.E., “Compliance,” of Boeing Special Attention Service Bulletin 757-25-0308, Revision 1, dated June 7, 2018, do all applicable actions identified as “RC” (required for compliance) in, and in accordance with, the Accomplishment Instructions of Boeing Special Attention Service Bulletin 757-25-0308, Revision 1, dated June 7, 2018.

(h) Exceptions to Service Information Specifications

For purposes of determining compliance with the requirements of this AD: Where Boeing Special Attention Service Bulletin 757-25-0308, Revision 1, dated June 7, 2018, uses the phrase “the original issue date of this service bulletin,” this AD requires using “the effective date of this AD.”

(i) Seat Inspection, Adjustment Check for Certain Seats, and On-Condition Actions

For airplanes identified in Boeing Special Attention Service Bulletin 757-25-0309, Revision 1, dated July 2, 2018: Within 36 months after the effective date of this AD, do all applicable actions identified as RC in, and in accordance with, the Accomplishment Instructions of Boeing Special Attention Service Bulletin 757-25-0309, Revision 1, dated July 2, 2018. A review of the airplane maintenance records may be used for the seat inspection if the part number can be conclusively determined from that review.

(j) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Los Angeles ACO Branch, FAA, to make those findings. To be approved, the repair method, modification deviation, or alteration deviation must meet the certification basis of the airplane, and the approval must specifically refer to this AD.

(4) For service information that contains steps that are labeled as RC, the provisions of paragraphs (j)(4)(i) and (j)(4)(ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(k) Related Information

For more information about this AD, contact Myra Kuck, Aerospace Engineer, Cabin Safety and Environmental Systems Section, FAA, Los Angeles ACO Branch, 3960 Paramount Boulevard, Lakewood, CA 90712-4137; phone: 562-627-5316; fax: 562-627-5210; email: myra.j.kuck@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Special Attention Service Bulletin 757-25-0308, Revision 1, dated June 7, 2018.

(ii) Boeing Special Attention Service Bulletin 757-25-0309, Revision 1, dated July 2, 2018.

(3) For service information identified in this AD, contact Boeing Commercial Airplanes, Attention: Contractual & Data Services (C&DS), 2600 Westminster Blvd, MC 110-SK57, Seal Beach, CA 90740-5600; telephone 562-797-1717; internet https://www.myboeingfleet.com.

(4) You may view this service information at the FAA, Transport Standards Branch, 2200 South 216th St, Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington on December 13, 2018.
Michael Kaszycki,
Acting Director, System Oversight Division, Aircraft Certification Service.

[FR Doc. 2018-27886 Filed 12-26-18; 8:45 am]

BILLING CODE 4910-13-P